DEPARTMENT OF ENERGY

Federal Energy Regulatory Commission

[Docket No. CP22-501-000]

Transcontinental Gas Pipe Line Company, LLC; Notice To Prepare an Environmental Assessment and Revised Schedule for Environmental Review of the Southeast Energy Connector Project

On August 22, 2022, Transcontinental Gas Pipe Line Company, LLC (Transco) filed an application in Docket No. CP22-501-000 requesting a Certificate of Public Convenience and Necessity pursuant to Section 7(c) of the Natural Gas Act to construct and operate certain natural gas pipeline facilities in Coosa and Chilton Counties, Alabama. The proposed project is known as the Southeast Energy Connector Project (Project) and would provide 150,000 dekatherms per day of natural gas transportation service to an existing electric power generator in Shelby County, Alabama.

On October 28, 2022, the Federal Energy Regulatory Commission (FERC or Commission) issued a Notice of Intent (NOI) which identified August 4, 2023 as the issuance date for the final Environmental Impact Statement (EIS). However, Commission staff now intends to prepare an Environmental Assessment (EA) for the Project and has therefore revised the planned schedule for the completion of the environmental review.¹

¹ 40 CFR 1501.10 (2020)

The October 28, 2022 NOI announced the opening of a 30-day scoping period which closed on November 28, 2022. Commission staff will consider the information gathered and comments received during scoping in the preparation of the EA; interested stakeholders do not need to resubmit comments previously submitted. Commission staff will make the EA available for public review and inspection, and solicit comments on the document from the public. The Commission will review and consider any future comments received on the EA in its consideration of the Project.

This notice identifies the revised schedule for completion of the EA for Transco's Project.

Schedule for Environmental Review

Issuance of the EA March 24, 2023

90-day Federal Authorization Decision Deadline ² June 22, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-501), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 27, 2023.
Kimberly D. Bose,
Secretary.

[FR Doc. 2023-02253 Filed 2-2-23; 8:45 am]

BILLING CODE 6717-01-P